DEPARTMENT OF TRANSPORTATION

Federal Aviation Administration

14 CFR Part 39

[Docket No. FAA-2013-0501; Directorate Identifier 2011-SW-036-AD]

RIN 2120-AA64

Airworthiness Directives; Eurocopter France Model Helicopters

AGENCY: Federal Aviation Administration (FAA), DOT.

ACTION: Notice of proposed rulemaking (NPRM).

SUMMARY: We propose to adopt a new airworthiness directive (AD) for Eurocopter France (Eurocopter) Model EC 155B and EC155B1 helicopters. This proposed AD would require repetitively inspecting the lower and upper front and rear fittings (fittings) that attach the upper fin to the fenestron for a crack. If there is a crack, this AD would require removing all four fittings from service. This proposed AD would also require, within a specified time, removing all fittings from service, and the fittings would not be eligible to be installed on any helicopter. This AD is prompted by the loss of an upper fin in flight. The proposed actions are intended to detect a crack in the fittings to prevent loss of the upper fin and subsequent loss of control of the helicopter.

DATES: We must receive comments on this proposed AD by August 12, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2011-0108, dated June 7, 2011, to correct an unsafe condition for Eurocopter Model EC 155B and EC155B1 helicopters. EASA advises of an in-flight loss of a fin on a Model EC155B1 helicopter. According to EASA, a crack in the fittings attaching the upper fin to the fenestron (tail rotor assembly) was discovered during an investigation. As a result, EASA issued an emergency AD to mandate repetitive inspections of the upper fin attachment fittings. EASA states that Eurocopter has now developed modification (MOD) 0754B40 to increase the strength of the fuselage-fin junction fittings by installing two reinforced single-piece fittings to replace the affected fittings, which is terminating action for the repetitive inspection requirements. EASA subsequently issued AD No. 2011-0108, which superseded its emergency AD, to require installation of MOD 0754B40 and to retain the repetitive inspection requirements until the MOD is installed.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information

Eurocopter has issued Emergency Alert Service Bulletin No. 05A017, Revision 2, dated December 9, 2010, which specifies repetitively inspecting the fittings for a crack and replacing each fitting if there is a crack. Eurocopter has also issued Service Bulletin No. 53-029, Revision 1, dated March 10, 2011, which specifies replacing the fittings with reinforced fittings in accordance with MOD 0754B40.

Proposed AD Requirements

This proposed AD would require repetitively inspecting certain part-numbered fittings for a crack, and if there is a crack, removing the fittings from service before further flight. Also, within 180 hours time-in-service (TIS), this AD proposes removing certain part-numbered fittings from service. Replacing the fittings with airworthy fittings not listed in the applicability paragraph of this proposed AD would be terminating action for the requirements of this AD. The affected fittings would not eligible to be installed on any helicopter.

Differences Between This Proposed AD and the EASA AD

This AD would not require replacing the upper fin to fenestron fittings with reinforced fittings in accordance with MOD 0754B40 within 6 calendar months as stated in the EASA AD but rather would require removing the affected fittings from service within the equivalent 180 hours TIS.

Costs of Compliance

We estimate that this proposed AD would affect 9 helicopters of U.S. Registry. We estimate that operators would incur the following costs in order to comply with this AD, based on an average labor rate of $85 per work hour. It would take 1 work hour to inspect the fittings and about 3 inspections would occur before replacement. It would take 8 work hours to replace the fittings and required parts would cost $3,311. Based on these figures, the total cost would be $4,246 per helicopter and $38,214 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-0501; Directorate Identifier 2011-SW-036-AD.

(a) Applicability

This AD applies to Model EC 155B and EC155B1 helicopters with lower front fitting part number (P/N) 365A23-4240-01, upper front fitting P/N 365A23-4242-01, lower rear fitting P/N 365A23-4241-01, or upper rear fitting P/N 365A23-4243-01 (fittings) installed, certificated in any category.

(b) Unsafe Condition

This AD defines the unsafe condition as a crack in a fitting. This condition could result in loss of the upper fin during flight and subsequent loss of control of the helicopter.

(c) Compliance

You are responsible for performing each action required by this AD within the specified compliance time.

(d) Required Actions

(1) Within 15 hours time-in-service (TIS) and thereafter at intervals not to exceed 55 hours TIS:

(i) Using an appropriate light source and a 10x or higher power magnifying glass, inspect each front (c) and rear (d) upper fitting and each front (e) and rear (f) lower fitting for a crack as depicted in Figure 1 of Eurocopter Emergency Alert Service Bulletin No. 05A017, Revision 2, dated December 9, 2010 (ASB). Inspect the hatched area as depicted in Details B, C, and D of Figure 2 of the ASB. A high-resolution (more than 2 million pixels) digital camera or dye-penetrant inspection may be used to facilitate the crack inspection.

(ii) If there is a crack in any fitting, before further flight, remove all four fittings from service.

(2) Within 180 hours TIS, remove the fittings from service.

(3) Do not install lower front fitting P/N 365A23-4240-01, upper front fitting P/N 365A23-4242-01, lower rear fitting P/N 365A23-4241-01, and upper rear fitting P/N 365A23-4243-01 on any helicopter.

(e) Credit for Actions Previously Completed

Inspections accomplished before the effective date of this AD in accordance with the procedures specified in Eurocopter Emergency Alert Service Bulletin No. 05A017, Revision 2, dated December 9, 2010; Revision 1, dated January 27, 2010; and Revision 0, dated September 28, 2007, are considered acceptable for compliance with the inspection specified in paragraph (d)(1) of this AD.

(f) Special flight permits

Special flight permits will not be issued.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Service Bulletin No. 53-029, Revision 1, dated March 10, 2011, which is not incorporated by reference, contains additional information about the subject of this AD. For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

(2) The subject of this AD is addressed in European Aviation Safety Agency AD No. 2011-0108, dated June 7, 2011.

(i) Subject

Joint Aircraft Service Component (JASC) Code: 5530 Vertical Stabilizer Structure.

Issued in Fort Worth, Texas, on June 3, 2013.
Kim Smith,
Directorate Manager, Rotorcraft Directorate, Aircraft Certification Service.

[FR Doc. 2013-13799 Filed 6-10-13; 8:45 am]

BILLING CODE 4910-13-P